DEPARTMENT OF HEALTH AND HUMAN SERVICES

Substance Abuse and Mental Health Services Administration

Formation of a Subcommittee of the Substance Abuse and Mental Health Services Administration, Center for Substance Abuse Prevention National Advisory Council

AGENCY: Substance Abuse and Mental Health Services Administration, HHS.

ACTION: Notice.

SUMMARY: Notice is hereby given of the formation of a subcommittee of the Center for Substance Abuse Prevention National Advisory Council (CSAP NAC) to be known as the Substance Use Prevention Workforce. The subcommittee reports to the CSAP NAC, and of its findings, which are further deliberated by the CSAP NAC. The expected lifespan of the subcommittee is approximately one year. It is estimated that subcommittee meetings will occur approximately on a monthly basis via web conference.

FOR FURTHER INFORMATION CONTACT: Michelle McVay, Designated Federal Official; Substance Abuse and Mental Health Service Administration, CSAP National Advisory Council, 5600 Fishers Lane, Rockville, Maryland 20857 (mail); telephone: (202) 407-2154; email: michelle.mcvay@samhsa.hhs.gov.

SUPPLEMENTARY INFORMATION: The CSAP NAC was established to advise the Secretary, Department of Health and Human Services (HHS), and the Assistant Secretary for Mental Health and Substance Use, SAMHSA; and the Director, CSAP, concerning matters relating to the activities carried out by and through the Center and the policies respecting such activities. Information about future public CSAP NAC meetings and a roster of Council members may be obtained either by accessing the CSAP Council's website at https://www.samhsa.gov/about-us/advisory-councils, or by contacting Michelle McVay.

Dated: April 29, 2024.
Carlos Castillo,
Committee Management Officer.

[FR Doc. 2024-09633 Filed 5-2-24; 8:45 am]

BILLING CODE 4162-20-P